DEPARTMENT OF ENERGY

Federal Energy Regulatory Commission

[Docket No. AC13-35-000]

PPL Colstrip I, LLC, PPL Colstrip II, LLC, PPL Montana, LLC; Notice of Filing

Take notice that on December 21, 2012, PPL Colstrip I, LLC (PPL Colstrip I), PPL Colstrip II, LLC (PPL Colstrip II) and PPL Montana, LLC (PPL Montana) (collectively, the PPL Companies) submitted to the Federal Energy Regulatory Commission (Commission) a request for waivers of Parts 41, 101 and 141 of the Commission's regulations concerning accounting and reporting requirements, except for sections 141.14 and 141.15. PPL Colstrip I requests such waivers effective as of the effective date of its first jurisdictional tariff on September 1, 2005, while PPL Colstrip II and PPL Montana request such waivers effective as of January 1, 2000. PPL Companies argue such waivers are requested in order to avoid the need for these entities to file FERC Form No. 1, FERC Form No. 3-Q and meet other regulatory and accounting requirements imposed by these Parts from the later of the dates their previously-granted waivers expired (for PPL Colstrip II and PPL Montana as of January 2000) or when their respective first jurisdictional tariffs became effective (for PPL Colstrip I as of September 1, 2005). PPL Companies argues that PPL Colstrip I and II have never made any jurisdictional sales. PPL Montana has made jurisdictional sales only pursuant to its market-based rate tariff. Accordingly, PPL Montana and PPL Colstrip II have not made any sales at cost-based rates pursuant to the OATT that they had on file, which now has been terminated.¹

¹ Letter order in ER12-2597-000 issued November 5, 2012.

Any person desiring to intervene or to protest this filing must file in accordance with Rules 211 and 214 of the Commission's Rules of Practice and Procedure (18 CFR 385.211 or 385.214). Protests will be considered by the Commission in determining the appropriate action to be taken, but will not serve to make protestants parties to the proceeding. Any person wishing to become a party must file a notice of intervention or motion to intervene, as appropriate. Such notices, motions, or protests must be filed on or before the comment date. On or before the comment date, it is not necessary to serve motions to intervene or protests on persons other than the Applicant.

The Commission encourages electronic submission of protests and interventions in lieu of paper using the “eFiling” link at http://www.ferc.gov. Persons unable to file electronically should submit an original and 14 copies of the protest or intervention to the Federal Energy Regulatory Commission, 888 First Street NE., Washington, DC 20426.

This filing is accessible on-line at http://www.ferc.gov, using the “eLibrary” link and is available for review in the Commission's Public Reference Room in Washington, DC. There is an “eSubscription” link on the Web site that enables subscribers to receive email notification when a document is added to a subscribed docket(s). For assistance with any FERC Online service, please email FERCOnlineSupport@ferc.gov, or call (866) 208-3676 (toll free). For TTY, call (202) 502-8659.

Comment Date: 5:00 p.m. Eastern Time on February 28, 2013.

Dated: January 31, 2013.
Kimberly D. Bose,
Secretary.

[FR Doc. 2013-02575 Filed 2-5-13; 8:45 am]

BILLING CODE 6717-01-P